DEPARTMENT OF COMMERCE

[Docket No. 111115679-1674-01]

RIN 0605-XA38

Privacy Act of 1974; Altered System of Records

AGENCY: U.S. Census Bureau, Department of Commerce.

ACTION: Notice of Amendment, Privacy Act System of Records; COMMERCE/CENSUS-4, Minority-Owned Business Enterprises Survey Records.

SUMMARY: In accordance with the Privacy Act of 1974, as amended, Title 5 United States Code (U.S.C.) 552a(e)(4) and (11); and Office of Management and Budget (OMB) Circular A-130, Appendix I, “Federal Agency Responsibilities for Maintaining Records About Individuals”, the Department of Commerce is issuing notice of intent to amend the system of records entitled COMMERCE/CENSUS-4, “Minority-Owned Business Enterprises Survey Records.” This amendment would change the name of the system of records to “Economic Survey Collection;” would amend certain provisions concerning the purpose of the system of the records, categories of records covered by the system, routine uses of records maintained in the system, retrievability, and safeguards of records in the systems; and would make other minor administrative updates. Accordingly, the COMMERCE/CENSUS-4, Minority-Owned Business Enterprises Survey Records notice published in the Federal Register on November 1, 2002 (67 FR 66609) is amended as below. We invite public comment on the proposed change in this publication.

DATES: Comment Date: To be considered, written comments on the proposed amended system must be submitted on or before February 27, 2012.

Effective Date: Unless comments dictate otherwise, the amended system of records will become effective as proposed on the date of publication of a subsequent notice in the Federal Register.

ADDRESSES: Please address comments to: Chief Privacy Officer, Room 8H115, U.S. Census Bureau, Washington, DC 20233-3700.

SUPPLEMENTARY INFORMATION: This update makes five program-related changes. The first of five proposed changes updates the name and purpose of the system of records to expand the scope to include all economic programs, as well as surveys, such as the Survey of Business Owners and Survey of Construction. This update is a result of a System of Records Notice (SORN) re-alignment to cover all economic censuses and surveys authorized by, and kept confidential in accordance with Title 13; this SORN also includes government and building permit economic surveys that utilize public data sources, and, therefore, are not kept confidential in accordance with Title 13. The second proposed change updates the categories of individuals in the system to include the universe of small business owners in the U.S., as well as individuals engaged in business activity. The third proposed change updates the categories of records in the system to include selected administrative records from other federal, state, and local government agencies, or commercial sources, combined with collected data from economic censuses and surveys. The fourth proposed change updates the routine uses of data to indicate that some governments and building permits data are public use data and may be disclosed. The fifth change updates the safeguards to comprehensively cover the safeguards provided at the Census Bureau. Additionally, this amendment provides minor administrative updates. The entire resulting system of records notice, as amended, appears below.

COMMERCE/CENSUS-4

System Name:

COMMERCE/CENSUS-4, Economic Survey Collection

Security Classification:

None.

System Location:

The U.S. Census Bureau, 4600 Silver Hill Road, Washington, DC 20233; U.S. Census Bureau, Bowie Computer Center, 17101 Melford Boulevard, Bowie, Maryland 20715; and U.S. Census Bureau, National Processing Center, 1201 East 10th Street, Jeffersonville, Indiana 47132.

Categories of Individuals Covered by the System:

This system covers individuals operating a business, data on individuals from federal, state and local governments, and businesses in the United States. Data collected directly from respondents may be supplemented with data from administrative record files received from other federal, state, or local agencies, or commercial sources. Most of these files are collected and processed under the Statistical Administrative Records System. Administrative record files are from agencies including, the Departments of Agriculture, Education, Health and Human Services, Homeland Security, Housing and Urban Development, Labor, Treasury, Veterans Affairs, and from the Office of Personnel Management, the Social Security Administration, the Selective Service System, and the U.S. Postal Service. Comparable data may also be sought from State agencies and commercial sources. Please see the COMMERCE/CENSUS-8, Statistical Administrative Records System SORN for more information.

Categories of Records in the System:

Records in this system of records consist of working statistical files (i.e., those files being analyzed to produce survey results), survey data files (i.e., those files containing answers directly from the respondent), and/or data files (i.e., those files used for contacting respondents). Records in this system of records may contain information such as: Demographic Information—gender, race, ethnicity, place of birth, and veteran status; Economic Information—business name, address, telephone number, geographic area, industry classification code, legal form of business, business receipts, number of employees, annual payroll and Federal Tax Information; Processing Information—employer identification number (EIN). Some records in this system of records may be obtained from datasets maintained by the COMMERCE/CENSUS-8, Statistical Administrative Records System where direct identifiers (SSN) have been replaced with a unique non-identifying code prior to delivery to this system of records. These categories of records are maintained on unique data sets that are extracted or combined on an as needed basis using the unique non-identifying codes but with the original identifiers removed. These records may contain: Demographic information—date of birth, sex, race, ethnicity, household and family characteristics, education, marital status, Tribal affiliation, and veteran's status; Geographical information—address and geographic codes; Mortality information—cause of death and hospitalization information; Health information—type of provider, services provided, cost of services, and quality indicators; Economic information—housing characteristics, income, occupation, employment and unemployment information, health insurance coverage, Federal program participation, assets, and wealth. Another category of records contains two types of records that are maintained on unique data sets that are extracted or combined on an as-needed basis using the unique non-identifying codes but with some name information retained. One type of records contains: Business information—business name, revenues, number of employees, and industry codes in support of economic statistical products. The other type contains: Respondent contact information—name, address, telephone number, age, and sex in support of survey and census data collection efforts. See the COMMERCE/CENSUS-8, Statistical Administrative Records System SORN for more information.

Authorities for Maintenance of the System:

13 U.S.C., Chapter 5, 8(b), 131, 132, and 182.

Purpose(s):

The economic survey collections covered by this system of records produce a wide-range of products for data users, including compilations of administrative records and survey-collected data, and numerous research and technical studies. For example, the U.S. Census Bureau's non-employer statistics program provides national and sub-national summary information on more than 20 million businesses without paid employees. The economic programs also combine data for non-employer and employer businesses in order to provide a complete picture of the Nation's economic activity. One example survey is, the Survey of Business Owners and Self-Employed Persons (SBO), which provides comprehensive information on demographic and economic characteristics of businesses and business owners. Another example survey is the Survey of Construction (SOC), which tracks a sample of builders from county building permit offices, to gauge the amount of residential construction by geographic area. Additionally, the economic programs provide data on the structure, function, finances, taxation, employment, and retirement systems within the United State's federal, state and local governments. A related purpose is to conduct research on the methodology associated with various aspects of surveys, such as data quality checks and review during post data collection processing. An other purposes of the system of records for economic collections include the integration of non-employer and employer records to form a comprehensive business universe file for subsequent analysis.

Routine Uses of Records Maintained in the System, Including Categories of Users and the Purposes of Such Uses:

(1) Building permit data is compiled from public use data, and, therefore, is not subject to confidentiality restrictions; and may be released to other agencies or individuals.

(2) Economic data related to government operations that are publicly available may be released and used by other federal agencies, state and local legislators, researchers, businesses, and individuals.

Disclosure to Consumer Reporting Agencies:

None.

Policies and Practices for Storing, Retrieving, Accessing, Retaining, and Disposing of Records in the System:

Storage:

Records will be stored in a secure computerized system and on electronic or magnetic media; output data will be either electronic or paper copies. Paper copies and magnetic media will be stored in a secure area within a locked drawer or cabinet. Data sets may be accessed only by authorized personnel. Control lists will be used to limit access to those employees with a need to know; rights will be granted based on job functions. For data that do not require confidentiality protections, security controls are not applied.

Retrievability:

A limited number of sworn U.S. Census Bureau staff will be permitted to retrieve records containing direct identifiers (SSN). Staff producing final statistical products will have access only to data sets from which direct identifiers have been deleted and replaced by unique non-identifying codes internal to the Census Bureau. In those cases, information may be retrieved by the unique non-identifying code, name of the business owner, demographic characteristics, or economic characteristics.

Safeguards:

The U.S. Census Bureau is committed to respecting respondent privacy and protecting confidentiality. Through the Data Stewardship Program, we have implemented management, operational, and technical controls and practices to ensure high-level data protection to respondents of our census and surveys. (1) An unauthorized browsing policy protects respondent information from casual or inappropriate use by any person with access to Title 13 protected data. (2) All employees permitted to access the system are subject to the restriction, penalties, and prohibitions of 13 U.S.C. 9 and 214, as modified by Title 18 U.S.C. 3551, et seq.; the Privacy Act of 1974 (5 U.S.C. 552a(b)(4)); and when applicable, Title 26 U.S.C. 7213, 7213A, and 7431. (3) All U.S. Census Bureau employees and persons with special sworn status will be regularly advised of regulations issued pursuant to Title 13 U.S.C. governing the confidentiality of the data, and will be required to complete an annual Title 13 awareness program; and those who have access to Federal Tax Information data will be regularly advised of regulations issued pursuant to Title 26 U.S.C. governing the confidentiality of the data, and will be required to complete an annual Title 26 awareness program. (4) All computer systems that maintain sensitive information are in compliance with the Federal Information Security Management Act, which includes auditing and controls over access to restricted data. (5) The use of unsecured telecommunications to transmit individually identifiable information is prohibited. (6) Paper copies that contain sensitive information are stored in secure facilities in a locked drawer or file cabinet behind a locked door. (7) Any publications, based on data that confidentiality is protected, in this system will be cleared for release under the direction of the U.S. Census Bureau's Disclosure Review Board, which will confirm that all the required disclosure avoidance procedures have been implemented and no information that identifies any individual is released.

Retention and Disposal:

Records are to be retained in accordance with the General Records Schedules and U.S. Census Bureau's records control schedules that are approved by the National Archives and Records Administration. Records are retained in accordance with agreements developed with entities who provide the data. Federal tax information administrative record data will be retained and disposed of in accordance with Publication 1075, Tax information Security Guidelines for Federal, State, and Local Agencies and Entities. The U.S. Census Bureau issues an Annual Safeguard Activity Report that includes information on the retention and disposal of federal administrative record source data. Due to IRS regulation, Title 26 data cannot be transferred to the National Archive and Records Administration (NARA). Permanent data will be archived at the Census Bureau.

System Manager and Address:

Associate Director for Economic Programs, Room 8H132-North Building, U.S. Census Bureau, 4600 Silver Hill Road, Washington, DC 20233-8100.

Notification Procedure:

None.

Record Access Procedures:

None.

Contesting Records Procedures:

None.

Record Source Categories:

Individuals, state and local governments, and businesses covered by economic censuses and surveys and selected administrative record systems.

Exemptions Claimed for System:

Pursuant to Title 5 U.S.C. 552a(k)(4), this system of records is exempted from the notification, access, and contest requirements of the agency procedures (under Title 5 U.S.C. 552a(c)(3), (d), (e)(1), (e)(4)(G), (H), and (I), and (f)). This exemption is applicable as the data are maintained by the U.S. Census Bureau and required by Title 13 to be used solely as statistical records and are not used in whole or in part in making any determination about an identifiable individual. This exemption is made in accordance with the Department's rules which appear in 15 CFR part 4 subpart B and in accordance with agency rules published in the rules section of this Federal Register.

Dated: January 18, 2012.
Jonathan R. Cantor,
Chief Privacy Officer, Department of Commerce.

[FR Doc. 2012-1595 Filed 1-25-12; 8:45 am]

BILLING CODE 3510-07-P